DEPARTMENT OF THE TREASURY

Submission for OMB Review; Comment Request

December 18, 2009.

The Department of the Treasury will submit the following public information collection requirement to OMB for review and clearance under the Paperwork Reduction Act of 1995, Public Law 104-13 on or after the date of publication of this notice. Copies of this submission may be obtained by calling the Treasury Bureau Clearance Officer listed. Comments regarding this information collection should be addressed to the OMB reviewer listed and to the Treasury PRA Clearance Officer, Department of the Treasury, 1750 Pennsylvania Avenue, NW., Suite 11010, Washington, DC 20220.

Dates: Written comments should be received on or before January 25, 2010 to be assured of consideration.

Internal Revenue Service (IRS)

OMB Number: 1545-0984.

Type of Review: Revision of a currently approved collection.

Title: Low-Income Housing Credit.

Form: 8586.

Description: The Tax Reform Act of 1986 (Code section 42) permits owners of residential rental projects providing low-income housing to claim a credit against income tax for part of the cost of construction or rehabilitating such low-income housing. Form 8586 is used by taxpayers to compute the credit and by IRS to verify that the correct credit has been claimed.

Respondents: Businesses or other for-profits.

Estimated Total Burden Hours: 68,517 hours.

Clearance Officer: R. Joseph Durbala, (202) 622-3634, Internal Revenue Service, 1111 Constitution Avenue, NW., Room 6129, Washington, DC 20224.

OMB Reviewer: Shagufta Ahmed, (202) 395-7873, Office of Management and Budget, Room 10235, New Executive Office Building, Washington, DC 20503.

Dawn D. Wolfgang,
Treasury PRA Clearance Officer.

[FR Doc. E9-30571 Filed 12-23-09; 8:45 am]

BILLING CODE 4830-01-P